DEPARTMENT OF ENERGY

Federal Energy Regulatory Commission

[Docket No. CP23-87-001]

WBI Energy Transmission, Inc.; Notice of Request for Extension of Time

Take notice that on April 11, 2024, WBI Energy Transmission, Inc. (WBI Energy) requested that the Federal Energy Regulatory Commission (Commission) grant an extension of time, until October 1, 2024, to construct and place into service its Line Section 15 Expansion Project (Project) located in Butte, Lawrence, Meade, and Pennington Counties, South Dakota. On March 14, 2023, the Commission issued a Notice of Request Under Blanket Authorization, which established a 60-day comment period, ending on May 15, 2023, to file protests. No protests were filed during the comment period, and accordingly the project was authorized on May 15, 2023 and by Rule should have been completed within one year.

In its 2023 Extension of Time Request, WBI Energy states that it will not be able to complete all the work associated with the Project by the May 15, 2024, deadline. As of November 12, 2023, the commissioning of all Project facilities was complete except for remaining work on the 500-foot Yellow Mainline Extension from the existing Krebs Station to the new Krebs Station.¹ At that time, Montana-Dakota Utilities Co. (Montana-Dakota), a Project shipper, had yet to complete its required work downstream of the new Krebs Station and WBI Energy utilized a minor temporary pipeline reconfiguration to allow natural gas to continue to flow to the existing Krebs Station as reported in the weekly construction reports. Currently, Montana-Dakota is scheduled to complete its required work downstream of the new Krebs Station by the end of August 2024. After Montana-Dakota completes its work, WBI Energy can finish the remaining work on the Yellow Mainline Extension and complete necessary tie-ins to deliver gas to Montana-Dakota through the new Krebs Station. Accordingly, WBI Energy requests an extension of time until October 1, 2024, to complete construction of project facilities and begin providing service to Montana-Dakota through the new Krebs Station.

¹ WBI Energy is reporting in its weekly construction reports that the extensions of the Red and Yellow Mainlines at the Krebs Station are 98 percent complete with the remaining 2 percent of work associated with the Yellow Mainline Extension.

This notice establishes a 15-calendar day intervention and comment period deadline. Any person wishing to comment on WBI Energy's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at 202-502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Acting Secretary, Federal Energy Regulatory Commission, 888 First Street NE, Washington, DC 20426.

To file via any other courier: Debbie-Anne A. Reese, Acting Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5 p.m. eastern time on May 8, 2024.

Dated: April 23, 2024.
Debbie-Anne A. Reese,
Acting Secretary.

[FR Doc. 2024-09200 Filed 4-29-24; 8:45 am]

BILLING CODE 6717-01-P